DEPARTMENT OF VETERANS AFFAIRS

[OMB Control No. 2900-0545]

Agency Information Collection Activity Under OMB Review: Report of Medical, Legal, and Other Expenses Incident to Recovery for Injury or Death

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0545”.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0545” in any correspondence.

SUPPLEMENTARY INFORMATION:

Authority: 38 U.S.C. 1503, 28 CFR 3.262, § 3.271, and § 3.272.

Title: Report of Medical, Legal, and Other Expenses Incident to Recovery for Injury or Death.

OMB Control Number: 2900-0545.

Type of Review: Revision of a currently approved collection.

Abstract: VA Form 21P-8416b is used to gather information about certain expenses related to securing compensation based on personal injury or death. The form is used by claimants for VA income-based benefits to determine the amount of countable income. Without this information, the VA would be unable to properly determine entitlement to income-based benefits and the rate payable.

An agency may not conduct or sponsor, and a person is not required to respond to a collection of information unless it displays a currently valid OMB control number. The Federal Register Notice with a 60-day comment period soliciting comments on this collection of information was published at 89 FR 14154 on Friday, February 26, 2024, page 14154.

Affected Public: Individuals or Households.

Estimated Annual Burden: 75 hours.

Estimated Average Burden per Respondent: 45 minutes.

Frequency of Response: One time.

Estimated Number of Respondents: 100.

By direction of the Secretary.
Maribel Aponte,
VA PRA Clearance Officer, Office of Enterprise and Integration, Data Governance Analytics, Department of Veterans Affairs.

[FR Doc. 2024-09379 Filed 4-30-24; 8:45 am]

BILLING CODE 8320-01-P